DEPARTMENT OF THE INTERIOR

National Park Service

[NPS-NER-PAGR-15077; PPNEPAGR00/PMP00UP05.YP0000, PX.P0156924I]

Amendment of Paterson Great Falls National Historical Park Advisory Commission Meeting Location and Time

AGENCY: National Park Service, Interior.

ACTION: Notice of amendment of meeting location and time.

SUMMARY: In accordance with the Federal Advisory Committee Act (5 U.S.C. Appendix 1-16), notice is hereby given of the change in time and location for the April 10, 2014, meeting of the Paterson Great Falls National Historical Park Advisory Commission.

DATES: The meeting time originally published on December 26, 2013, in the Federal Register, 78 FR 78381, has been changed. The new meeting time will be Thursday, April 10, 2014, from 6:00 p.m. until 9:00 p.m.

Location: The meeting location originally published in the December 26, 2013, Federal Register, 78 FR 78381, has been changed. The new meeting location is the Cohen Lounge in Dickson Hall, Montclair State University, Montclair, New Jersey. Directions can be found on Montclair State University's Web site: http://www.montclair.edu/chss/inserra-chair/directions/cohen-lounge/.

FOR FURTHER INFORMATION CONTACT: Darren Boch, Superintendent, Paterson Great Falls National Historical Park, 72 McBride Avenue, Paterson, NJ 07501, (973) 523-2630.

SUPPLEMENTARY INFORMATION: The Paterson Great Falls National Historical Park Advisory Commission was authorized by Congress and signed by the President on March 30, 2009, (Pub. L. 111-11, Title VII, Subtitle A, Section 7001, Subsection e), “to advise the Secretary in the development and implementation of the management plan.” Topics to be discussed in this meeting include updates on the status of the Paterson Great Falls NHP General Management Plan.

The meeting will be open to the public and time will be reserved during the meeting for public comment. Oral comments will be summarized for the record. If individuals wish to have their comments recorded verbatim, they must submit them in writing. Written comments and requests for agenda items may be sent to: Federal Advisory Commission, Paterson Great Falls National Historical Park, 72 McBride Avenue, Paterson, NJ 07501.

Before including your address, telephone number, email address, or other personal identifying information in your comment, you should be aware that your entire comment−including your personal identifying information−may be made publicly available at any time. While you may ask us in your comment to withhold your personal identifying information from public review, we cannot guarantee that we will be able to do so. All comments will be made part of the public record and will be electronically distributed to all Committee members.

Alma Ripps,
Chief, Office of Policy.

[FR Doc. 2014-06552 Filed 3-24-14; 8:45 am]

BILLING CODE 4310-WV-P